Title 3—

The President

Proclamation 7683 of May 30, 2003

National Child's Day, 2003

By the President of the United States of America

A Proclamation

On National Child's Day, we celebrate the future of our Nation and the promise of America's youth. As a Nation, as parents, and as community members, we have a responsibility to build a secure and nurturing society so that our children have the opportunity to grow, learn, work, and succeed.

Creating an environment that instills important values, builds strong character, and provides sound education for our children is a vital national priority. With a firm foundation, children will be better able to face the challenges of the future.

Parents are a child's first teachers, and they can be the most effective instructors. One of the most helpful activities parents can do with their children is read with them. Children who develop a love for reading expand their imaginations and cultivate a thirst for learning that lasts a lifetime. By talking, listening, and reading to our children, we can help them build the confidence they need to succeed in life. Parents' role as educators becomes even more important as schools across the country prepare for summer recess. Summertime is not only a time for children to relax and play, it is also a time for parents to strengthen their ties to their children by spending time with them and helping them to broaden their experiences.

To expand on the important work that parents do, my Administration has taken significant steps to help give our children greater opportunities to learn. By improving our education system and encouraging early reading and language skills, we give our children the tools they will need to succeed in the world they will inherit from us. Children also benefit from the immeasurable care and support of their teachers, and are inspired by the model they set.

Outside the home and the classroom, there are many adults who touch children's lives. Family, mentors, neighbors, and friends can help mold America's next generation through their positive examples, showing children how to help those in need and encouraging them to set high standards for themselves. To help instill the value of volunteer service, the USA Freedom Corps, through the Students in Service to America initiative, is helping to create ways for young people to give back to their communities. By using their time, talents, and compassion to make a difference in the lives of others, America's children are learning to become responsible and engaged leaders in our democratic society.

On this special day, we celebrate the possibility of every boy and girl in America. In their faces, we see the hope of our Nation. America is dedicated to their welfare and the full development of their potential.

NOW, THEREFORE, I, GEORGE W. BUSH, President of the United States of America, by virtue of the authority vested in me by the Constitution and laws of the United States, do hereby proclaim June 1, 2003, as National Child's Day. I urge parents to spend more time with their children, read to them, listen to their concerns, offer guidance and love, and encourage their dreams. I also urge all Americans to set a positive example for our children and to assist parents in setting them on the path to success. And I call upon citizens to observe this day with appropriate programs, ceremonies, and activities.

IN WITNESS WHEREOF, I have hereunto set my hand this thirtieth day of May, in the year of our Lord two thousand three, and of the Independence of the United States of America the two hundred and twenty-seventh.

B

[FR Doc. 03-14230

Filed 6-3-03; 8:45 am]

Billing code 3195-01-P